DEPARTMENT OF ENERGY

National Energy Technology Laboratory; Notice of Availability of a Financial Assistance Solicitation

AGENCY: National Energy Technology Laboratory, Department of Energy (DOE).

ACTION: Notice of availability of a financial assistance solicitation.

SUMMARY: Notice is hereby given of the intent to issue Financial Assistance Solicitation No. DE-PS26-01NT41104 entitled “Power Plant Improvement Initiative.” A draft program solicitation, as a precursor to potentially awarding multiple financial assistance cooperative agreements, is now being developed. Following release of the draft solicitation, expected in December 2000, a comment and response session with industry and other potential partners will be conducted prior to final issuance of the program solicitation. Final issuance of the program solicitation is slated for late-January or early-February 2001 with awards expected early in fiscal year 2002. DOE will provide $95 million to fund the program, and proposers must match (or exceed) the government cost share for every project, bringing the total program value to at least $190 million. DOE anticipates making multiple awards under this program solicitation.

DATES: The draft solicitation will be available on the DOE/NETL's Internet address at http://www.netl.doe.gov/business on or about December 6, 2000.

ADDRESSES: For the contact to submit comments, where documents can be obtained, where meetings are being held, please see the FOR FURTHER INFORMATION CONTACT.

FOR FURTHER INFORMATION CONTACT: Jo Ann C. Zysk, MS 921-107, U.S. Department of Energy, National Energy Technology Laboratory, P.O. Box 10940, E-mail Address: zysk@netl.doe.gov, Telephone Number: (412) 386-6600.

SUPPLEMENTARY INFORMATION: Work is underway at the Department of Energy's National Energy Technology Laboratory to initiate a $190 million dollar, fifty percent industry cost shared research, development and demonstration program aimed at improving thereliability of the nation's fleet of coal-fired power plants. In many regions of the United States, our expanding economy is being powered by out-of-date and undersized electric power facilities. The result has been an increasing frequency of power supply disruptions and sharp increases in the electric bills of many Americans. With more than half of our electric power being generated by coal in the United States and an abundant domestic supply of coal, projections are that coal generated power will be a major contributor to our economic expansion well into the next century. Electric power produced from coal is fundamental to a strong U.S. economy and to domestic energy security considering recent instabilities in natural gas prices and our current dependance on foreign oil supplies.

As the U.S. electric industry transitions to a new and competitive business structure, the demands on the existing fleet of coal-based electric generating facilities are changing. Power plants must operate in a fashion that reduces environmental impacts, achieves greater efficiency in operation, reduces carbon dioxide, nitric oxide, and sulfur emissions, remains cost competitive, and responds quickly to changing customer demand. This Power Plant Improvement Initiative will demonstrate advanced coal-based technologies applicable to existing and new power plants including plants capable of producing electricity and some combination of heat, fuels, and/or chemicals from coal-derived synthesis gas.

The technologies to be developed under this program will be vital to the role that coal and other solid fuels will play on the world power production scene. Production of more electricity while creating a cleaner environment at lower cost has the potential to raise the standard of living of not only the citizens of the United States, but of the world as a whole.

The National Energy Technology Laboratory (NETL), DOE's newest national lab that oversees the department's fossil fuel programs, will manage the program. NETL manages and implements a broad spectrum of energy and environmental programs. NETL employs approximately 1,100 federal personnel and support-service contractors at its sites in Pittsburgh, PA and Morgantown, WV.

Prospective applicants who would like to be notified as soon as the draft solicitation is available should register at http://www.netl.doe.gov/business. Provide your E-mail address and click on the “Coal Liquids/Solid Fuels Feedstocks” technology choice located under the heading “Fossil Energy.” Once you subscribe, you will receive an announcement by E-mail that the draft solicitation has been released to the public. Telephone requests, written requests, E-mail requests, or facsimile requests for a copy of the draft solicitation package will not be accepted and/or honored. The draft solicitation will be open for public comments on December 6. A public meeting will be held on December 15, 2000 and the draft solicitation will be closed to public comments on January 5, 2001.

The final solicitation will be made available on or about January 31, 2001. Applications must be prepared and submitted in accordance with the instructions and forms contained in the solicitation. The final solicitation document will allow for requests for explanation and/or interpretation.

Issued in Pittsburgh, PA on November 24, 2000.
Dale A. Siciliano,
Deputy Director, Acquisition and Assistance Division.

[FR Doc. 00-31437 Filed 12-8-00; 8:45 am]

BILLING CODE 6450-01-P